DEPARTMENT OF JUSTICE

Antitrust Division

Notice Pursuant to the National Cooperative Research and Production Act of 1993—National Spectrum Consortium

Notice is hereby given that, on October 23, 2019, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Parallel Wireless, Inc., Nashua, NH; Concurrent Technologies Corporation, Johnstown, PA; Aether Argus Inc., Atlanta, GA; Selex Galileo Inc., Arlington, VA; NEC Corporation of America, Irving, TX; A10 Systems LLC, Chelmsford, MA; The Kenjya-Trusant Group, LLC, Columbia, MD; iPosi Inc., Denver, CO; Intel Federal LLC, Fairfax, VA; Old Dominion University Research Foundation, Norfolk, VA; Starry, Inc., Boston, MA; QuayChain, Inc., San Pedro, CA; Wind Talker Innovations Inc., Fife, WA; Ewing Engineered Solutions, Allen, TX; Ericsson, Inc., Plano, TX; AnTrust, Clarksville, MD; Novowi LLC, Brookline, MA; Frequency Electronics, Inc., Uniondale, NY; GATR Technologies, Huntsville, AL; T-Mobile USA Inc., Washington, DC; GreenSight Agronomics, Inc., Boston, MA; Otava, Inc., Moorestown, NJ; William Marsh Rice University, Houston, TX; Thinklogical, LLC, Milford, CT; Blue Danube Systems, Inc., Santa Clara, CA; MixComm, Inc., Chatham, NJ; American Systems Corporation, Chantilly, VA; University of Oklahoma, Normon, OK; Qubitekk, Inc., Bakerfield, CA; LocatorX, Inc., Suwanne, GA; Technology Unlimited Group, San Diego, CA; and Synoptic Engineering, LLC, Arlington, VA, have been added as parties to this venture.

Also, Avionics Test & Analysis Corporation, Niceville, FL; Veritech, LLC, Glendale, AZ; and Bascom Hunter Technologies, Inc., Baton Rouge, LA, have withdrawn as parties from this venture.

No other changes have been made in either the membership or planned activity of the group research project. Membership in this group research project remains open, and NSC intends to file additional written notifications disclosing all changes in membership.

On September 24, 2014, NSC filed its original notification pursuant to Section 6(a) of the Act. The Department of Justice published a notice in the Federal Register pursuant to Section 6(b) of the Act on November 4, 2014 (79 FR 65424).

The last notification was filed with the Department on August 13, 2019. A notice was published in the Federal Register pursuant to Section 6(b) of the Act on September 13, 2019 (84 FR 48377).

Suzanne Morris,
Chief, Premerger and Division Statistics Unit, Antitrust Division.

[FR Doc. 2019-24605 Filed 11-12-19; 8:45 am]

BILLING CODE 4410-11-P